NATIONAL AERONAUTICS AND SPACE ADMINISTRATION

[Notice (10-058)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: May 21, 2010.

FOR FURTHER INFORMATION CONTACT: Edward K. Fein, Patent Counsel, Johnson Space Center, Mail Code AL, 2101 NASA Parkway, Houston, TX 77058, (281) 483-4871; (281) 483-6936 [Facsimile].

NASA Case No. MSC-24490-1: High Altitude Hydration System.

Dated: May 17, 2010.
Richard W. Sherman,
Deputy General Counsel.

[FR Doc. 2010-12179 Filed 5-20-10; 8:45 am]

BILLING CODE 7510-13-P